SMALL BUSINESS ADMINISTRATION

[Declaration of Disaster #P043]

State of South Dakota

As a result of the President's major disaster declaration for Public Assistance on July 20, 2004, the U.S. Small Business Administration is activating its disaster loan program only for private non-profit organizations that provide essential services of a governmental nature. I find that Haakon, Jackson, Marshall, Mellette, Minnehaha, Todd, Tripp, and Turner Counties, and the Rosebud Indian Reservation in the State of South Dakota constitute a disaster area due to damages caused by severe storms and flooding occurring on May 28, 2004, and continuing. Applications for loans for physical damage as a result of this disaster may be filed until the close of business on September 20, 2004, at the address listed below or other locally announced locations: U.S. Small Business Administration, Disaster Area 3 Office, 14925 Kingsport Road, Fort Worth, TX 76155-2243.

The interest rates are:

| Percent
For Physical Damage:
Non-Profit Organizations Without Credit Available Elsewhere | 2.750
Non-profit organizations with credit available elsewhere | 4.875

The number assigned to this disaster for physical damage is P04306.

(Catalog of Federal Domestic Assistance Program Nos. 59008.)

Dated: July 26, 2004.
Herbert L. Mitchell,
Associate Administrator for Disaster Assistance.

[FR Doc. 04-17590 Filed 8-2-04; 8:45 am]

BILLING CODE 8025-01-P